FEDERAL ACCOUNTING STANDARDS ADVISORY BOARD

Release of Exposure Draft Technical Bulletins; Accounting for Oil and Gas Resources and Federal Natural Resources Other Than Oil and Gas

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has released Exposure Draft Technical Bulletin 2011-1, Accounting for Federal Natural Resources Other Than Oil and Gas, and an Exposure Draft that Proposes to Defer the Effective Date of SFFAS 38, Accounting for Federal Oil and Gas Resources.

The Exposure Drafts are available on the FASAB home page http://www.fasab.gov/exposure.html. Copies can be obtained by contacting FASAB at (202) 512-7350.

Respondents are encouraged to comment on any part of the exposure drafts. Written comments on the Exposure Draft Technical Bulletin 2011-1 are requested by January 31, 2011. Written comments on the Exposure Draft to Defer the Effective Date of SFFAS 38 are requested by February 11, 2011. Comments on the Exposure Drafts should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Pub. L. 92-463.

Dated: January 11, 2011.
Charles Jackson,
Federal Register Liaison Officer.

[FR Doc. 2011-846 Filed 1-18-11; 8:45 am]

BILLING CODE 1610-02-P